U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on April 13, 2017 on “China's Hotspots along China's Maritime Periphery”.

DATES: The hearing is scheduled for Thursday, April 13, 2017 from 9:30 a.m. to 3:50 p.m.

ADDRESSES: Dirksen Senate Office Building, Room 419, Washington, DC. A detailed agenda for the hearing will be posted on the Commission's Web site at www.uscc.gov. Also, please check the Commission's Web site for possible changes to the hearing schedule. Reservations are not required to attend the hearing.

FOR FURTHER INFORMATION CONTACT: Any member of the public seeking further information concerning the hearing should contact Leslie Tisdale, 444 North Capitol Street NW., Suite 602, Washington DC 20001; telephone: 202-624-1496, or via email at ltisdale@uscc.gov. Reservations are not required to attend the hearing.

SUPPLEMENTARY INFORMATION:

Background: Taiwan remains the primary focus of the People's Liberation Army (PLA) modernization while China has simultaneously increased its preparations for other crisis areas, including conflicts in the East and South China seas. Beijing's security concerns along China's maritime periphery constitute “regional hotspots” for which the PLA is preparing contingency plans that could result in armed conflicts between China and U.S. allies, friends, and partners in the Asia Pacific region. This hearing will explore threats Beijing perceives to Chinese sovereignty in the East and South China seas, how the PLA plans to respond to challenges, as well as implications for the United States and U.S. allies, partners, and friends should China initiate a conflict in the Asia Pacific region. The hearing will be co-chaired by Vice Chairman Dennis C. Shea and Senator Carte P. Goodwin. Any interested party may file a written statement by April 13, 2017, by mailing to the contact information above. A portion of each panel will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Date: March 23, 2017.
Michael Danis,
Executive Director, U.S.-China Economic and Security Review Commission.

[FR Doc. 2017-06105 Filed 3-27-17; 8:45 am]

BILLING CODE 1137-00-P